DEPARTMENT OF ENERGY

Federal Energy Regulatory Commission

Combined Notice of Filings #2

Take notice that the Commission received the following electric corporate filings:

Docket Numbers: EC14-107-000.

Applicants: Lone Valley Solar Park I LLC, Lone Valley Solar Park II LLC.

Description: Application for Authorization for Disposition of Jurisdictional Facilities and Request for Expedited Action of Lone Valley Solar Park I LLC, et. al.

Filed Date: 6/27/14.

Accession Number: 20140627-5090.

Comments Due: 5 p.m. ET 7/18/14.

Take notice that the Commission received the following electric rate filings:

Docket Numbers: ER10-1585-005; ER10-2960-003; ER10-1586-003; ER10-1594-005; ER10-1595-003; ER11-4051-004; ER14-1656-001; ER10-1596-003; ER10-1597-004; ER10-1598-003; ER10-1616-003; ER10-1617-005; ER10-1618-003; ER10-1619-003; ER10-1620-004; ER10-1623-003; ER10-1624-004; ER10-1625-004; ER12-60-007; ER10-1632-007; ER10-1626-004; ER10-1628-005; ER11-1936-003; ER10-1630-003.

Applicants: Astoria Generating Company, L.P., Big Sandy Peaker Plant, LLC, California Electric Marketing, LLC, Crete Energy Venture, LLC,CSOLAR IV South, LLC,CSOLAR IV West, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., TENASKA GATEWAY PARTNERS LTD, TENASKA GEORGIA PARTNERS LP, Tenaska Power Management, LLC, Tenaska Virginia Partners, L.P., Texas Electric Marketing, LLC, TPF Generation Holdings, LLC, Alabama Electric Marketing, LLC.

Description: Notification of Change in Status of the Tenaska MBR Sellers.

Filed Date: 6/27/14.

Accession Number: 20140627-5043.

Comments Due: 5 p.m. ET 7/18/14.

Docket Numbers: ER14-2281-000.

Applicants: Homer City Generation, L.P.

Description: Homer City Generation, L.P. submits tariff filing per 35.12: Reactive Supply and Voltage Control Service Tariff to be effective 7/1/2014.

Filed Date: 6/27/14.

Accession Number: 20140627-5050.

Comments Due: 5 p.m. ET 7/18/14.

Docket Numbers: ER14-2282-000.

Applicants: Appalachian Power Company.

Description: Appalachian Power Company submits tariff filing per 35.15: 20140627 AEPSC OATT Cancellation to be effective 8/1/2014.

Filed Date: 6/27/14.

Accession Number: 20140627-5051.

Comments Due: 5 p.m. ET 7/18/14.

Docket Numbers: ER14-2283-000.

Applicants: Alabama Power Company.

Description: Alabama Power Company submits tariff filing per 35.13(a)(2)(iii: SMEPA NITSA Amendment (to add Vidalia Delivery Point) to be effective 6/23/2014.

Filed Date: 6/27/14.

Accession Number: 20140627-5060.

Comments Due: 5 p.m. ET 7/18/14.

Docket Numbers: ER14-2284-000.

Applicants: Midcontinent Independent System Operator, Inc.

Description: Midcontinent Independent System Operator, Inc. submits tariff filing per 35.13(a)(2)(iii: 2014-06-27_SA 2672 METC-Lansing Brd of Water IFA to be effective 6/28/2014.

Filed Date: 6/27/14.

Accession Number: 20140627-5074.

Comments Due: 5 p.m. ET 7/18/14.

Docket Numbers: ER14-2285-000.

Applicants: Midcontinent Independent System Operator, Inc.

Description: 2014-06-27_Revisions to Sch 7,8,9 June Update to be effective 6/1/2014.

Filed Date: 6/27/14.

Accession Number: 20140627-5106.

Comments Due: 5 p.m. ET 7/18/14.

Docket Numbers: ER14-2286-000.

Applicants: Midcontinent Independent System Operator, Inc.

Description: 2014-06-27 ATC D-T IAs Update Batch 2 to be effective 8/28/2014.

Filed Date: 6/27/14.

Accession Number: 20140627-5115.

Comments Due: 5 p.m. ET 7/18/14.

Docket Numbers: ER14-2287-000.

Applicants: Nevada Power Company.

Description: Rate Schedule No. 144 Engineering, Procurement Construction Agmt—First Solar to be effective 5/19/2014.

Filed Date: 6/27/14.

Accession Number: 20140627-5116.

Comments Due: 5 p.m. ET 7/18/14.

Docket Numbers: ER14-2288-000.

Applicants: Dynegy Morro Bay, LLC.

Description: Notice of Cancellation to be effective 6/28/2014.

Filed Date: 6/27/14.

Accession Number: 20140627-5120.

Comments Due: 5 p.m. ET 7/18/14.

Docket Numbers: ER14-2289-000.

Applicants: PJM Interconnection, L.L.C.

Description: Ministerial Clean-Up re OATT Att DD Sections due to rejected language ER14-1461 to be effective 6/1/2014.

Filed Date: 6/27/14.

Accession Number: 20140627-5128.

Comments Due: 5 p.m. ET 7/18/14.

Docket Numbers: ER14-2290-000.

Applicants: Josco Energy Corp.

Description: Josco Energy Corp. submits tariff filing per 35.12: Josco Market Based Rate Application to be effective 8/11/2014.

Filed Date: 6/27/14.

Accession Number: 20140627-5135.

Comments Due: 5 p.m. ET 7/18/14.

Docket Numbers: ER14-2291-000.

Applicants: EME Homer City Generation, L.P.

Description: EME Homer City Generation, L.P. submits tariff filing per 35.15: Notice of Cancellation of Market-Based Rate Tariff to be effective 6/28/2014.

Filed Date: 6/27/14.

Accession Number: 20140627-5149.

Comments Due: 5 p.m. ET 7/18/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2014.
Nathaniel J. Davis, Sr.,
Deputy Secretary.

[FR Doc. 2014-15847 Filed 7-7-14; 8:45 am]

BILLING CODE 6717-01-P